DEPARTMENT OF COMMERCE

National Oceanic and Atmospheric Administration

RIN 0648-XE906

Determination of Overfishing or an Overfished Condition

AGENCY: National Marine Fisheries Service (NMFS), National Oceanic and Atmospheric Administration (NOAA), Commerce.

ACTION: Notice.

SUMMARY: This action serves as a notice that NMFS, on behalf of the Secretary of Commerce (Secretary), has found that the following stocks are subject to overfishing—Hood Canal coho salmon and Pribilof Islands blue king crab; the following salmon stocks are approaching an overfished condition—Quillayute Fall coho and Snohomish coho; and the following stocks are still both overfished and subject to overfishing—Western and Central North Pacific striped marlin and Atlantic and Gulf of Mexico dusky shark. NMFS, on behalf of the Secretary, notifies the appropriate fishery management council (Council) whenever it determines that overfishing is occurring, a stock is in an overfished condition, a stock is approaching an overfished condition, or when a rebuilding plan has not resulted in adequate progress toward ending overfishing and rebuilding affected fish stocks.

FOR FURTHER INFORMATION CONTACT: Regina Spallone, (301) 427-8568.

SUPPLEMENTARY INFORMATION: Pursuant to sections 304(e)(2) and (e)(7) of the Magnuson-Stevens Fishery Conservation and Management Act (Magnuson-Stevens Act), 16 U.S.C. 1854(e)(2) and (e)(7), and implementing regulations at 50 CFR 600.310(e)(2) and (j)(1), NMFS, on behalf of the Secretary, must notify Councils whenever it determines that a stock or stock complex is overfished or approaching an overfished condition; or if an existing rebuilding plan has not ended overfishing or resulted in adequate rebuilding progress. NMFS also notifies Councils when it determines a stock or stock complex is subject to overfishing.

NMFS has determined that Hood Canal coho is subject to overfishing, based on the most recent salmon stock assessments conducted by the Pacific Fishery Management Council (Pacific Council) Salmon Technical Team (STT). The Pacific Council has, consistent with the Pacific Coast Salmon Fishery Management Plan, already taken action shaping the 2016 fisheries to ensure Pacific Council area fisheries are not contributing to overfishing (May 2, 2016, 81 FR 26157). In addition, NMFS has determined that Pribilof Islands blue king crab is subject to overfishing based on catch levels exceeding the stock's overfishing limit. The North Pacific Fishery Management Council has been informed that they must take action to end overfishing immediately on this stock.

NMFS has determined that Quillayute Fall coho and Snohomish coho salmon are both approaching an overfished condition, based on the most recent salmon stock assessments conducted by the Pacific Council STT. These salmon stocks will be considered approaching an overfished condition if the 3-year geometric mean of the stock's two most recent postseason estimates of spawning escapement and the current preseason forecast of spawning escapement is below the stock's minimum stock size threshold. The Pacific Council has been informed that if either of these stocks becomes overfished, they must direct the STT to prepare a rebuilding plan within one year.

In addition, NMFS has determined that both Western and Central North Pacific striped marlin and Atlantic and Gulf of Mexico dusky shark are still overfished and subject to overfishing, based on the most recent assessments of these stocks. The striped marlin's determination was based on a 2015 assessment conducted by the Billfish Working Group of the International Scientific Committee for Tuna and Tuna-like Species in the North Pacific Ocean. On May 19, 2014, NMFS had announced its overfishing and overfished status determination for striped marlin, and informed the Western Pacific Fishery Management Council and the Pacific Fishery Management Council of their obligations under the MSA to address the domestic and international impact of U.S. fisheries on this stock (79 FR 28686). NMFS continues to work with the Councils and its partners to meet its domestic and international obligations, as specified in that earlier notice.

The dusky shark determination is based on a 2016 stock assessment update to the 21st Southeast Data Assessment and Review benchmark assessment for this stock, finalized in 2011. NMFS manages dusky shark under the 2006 Consolidated Atlantic Highly Migratory Species Fishery Management Plan and its amendments. Dusky shark has been a prohibited species since 2000, and may not be landed or retained in any fisheries. However, multiple commercial and recreational fisheries sometimes interact with the species as bycatch.

Dated: October 25, 2016.
Jennifer M. Wallace,
Acting Director, Office of Sustainable Fisheries, National Marine Fisheries Service.

[FR Doc. 2016-26126 Filed 10-28-16; 8:45 am]

BILLING CODE 3510-22-P